DEPARTMENT OF COMMERCE

National Oceanic and Atmospheric Administration

50 CFR Part 697

[Docket No. 130705590-3590-01]

RIN 0648-BD45

Fisheries of the Northeastern United States; Atlantic Coastal Fisheries Cooperative Management Act Provisions; American Lobster Fishery

AGENCY: National Marine Fisheries Service (NMFS), National Oceanic and Atmospheric Administration (NOAA), Commerce.

ACTION: Advance notice of proposed rulemaking.

SUMMARY: Based on Atlantic States Marine Fisheries Commission (Commission) recommendations, the NMFS is issuing this advance notice of proposed rulemaking to provide background information and request public comment on potential changes to Federal American lobster regulations. The proposed measures for the lobster trap fishery are intended to address the Commission's recommendations for Federal action to address the poor condition of the Southern New England (SNE) lobster stock and foster stock rebuilding. The rulemaking action considers management measures that would reduce lobster exploitation by 10 percent and reduce trap fishing effort in the SNE lobster management areas.

DATES: Comments must be received on or before September 19, 2013.

ADDRESSES: You may submit comments on this document, identified by NOAA-NMFS-2013-0110, by any of the following methods:

• Electronic Submission: Submit all electronic public comments via the Federal e-Rulemaking Portal. Go to www.regulations.gov/#!docketDetail;D=NOAA-NMFS-2013-0110, click the “Comment Now!” icon, complete the required fields, and enter or attach your comments.

• Mail: Submit written comments to John K. Bullard, Regional Administrator, NMFS, Northeast Regional Office, 55 Great Republic Drive, Gloucester, MA 01930. Mark the outside of the envelope: “Comments on American Lobster ANPR.”

• Fax: 978-281-9135; Attn: Allison Murphy

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Allison Murphy, Fishery Policy Analyst, (978) 281-9122, fax (978) 281-9135.

SUPPLEMENTARY INFORMATION:

Background

The American lobster fishery is managed by the Commission under Amendment 3 to the Interstate Fishery Management Plan for American Lobster (ISFMP). Since 1997, the Commission has coordinated the efforts of the states and Federal Government toward sustainable management of the American lobster fishery. We, NMFS, manage the portion of the fishery conducted in Federal waters from 3 to 200 miles offshore, based on management recommendations made by the Commission.

The American lobster management unit is divided between three lobster stocks and seven lobster conservation management areas (Areas). Recent data indicate that the SNE American lobster stock, which includes all or part of six Areas, is at a low level of abundance and is experiencing persistent recruitment failure, caused by a combination of environmental factors and continued fishing mortality. The Commission opted to address the poor condition of the SNE stock in two phases: First by reducing lobster exploitation by 10 percent through the adoption of multiple management measures in Addendum XVII in February 2012; and, second, by scaling the fishery to the size of the SNE stock through lobster trap reductions as mandated in Addendum XVIII, adopted in August 2012. Copies of the Addenda are available on the Commission's Web site at: http://www.asmfc.org/.

To achieve a 10-percent reduction in exploitation of the SNE American lobster stock under Addendum XVII, the Commission recommended several effort control measures for Areas 2, 3, 4, 5, and 6 to reduce the amount of American lobsters harvested from these Areas. We plan to develop proposed and final rules to implement these measures, which include: Minimum size increases; mandatory v-notching of egg-bearing female lobsters; and seasonal closures. See Table 1 for specific management measures by Area.

Table 1—Addendum XVII Management Measure Changes
Management measures | Area 2 | Area 3 | Area 4 | Area 5 | Area 6
V-Notching* | Mandatory for legal-sized egg-bearing females | n/a | Mandatory for legal-sized egg-bearing females | Mandatory for legal-sized egg-bearing females | n/a.
New Minimum Size | n/a | 3 17/32 in (8.97 cm) | n/a | n/a | n/a.
Seasonal Closure | n/a | n/a | February 1-March 31 | February 1-March 31 | September 8-November 28.
* If v-notching is deemed insufficient to meet the conservation objectives, additional seasonal closures may be implemented.

Under Addendum XVIII, the Commission proposed trap reductions for Areas 2 and 3, following separate trap reduction schedules. Specifically, measures for Area 2 would reduce a Federal lobster permit holder's trap allocation in Area 2 by 25 percent in the first year and by 5 percent each year over a 5-year period, ultimately reducing allocations by a total of 50 percent. Measures for Area 3 would reduce a Federal lobster permit holder's Area 3 allocation by 5 percent each year for 5 years, for a total reduction of 25 percent. We intend to include these trap reductions in the proposed and final rules mentioned above.

In addition to these upcoming measures, we recently published a proposed rule (78 FR 35217; June 12, 2013), based on Commission recommendations, seeking comment on establishing a limited access program in two lobster conservation management areas, Area 2 and the Outer Cape Area, and implementing a Lobster Trap Transfer Program in Areas 2 and 3, and the Outer Cape Area. Because the Lobster Trap Transfer Program may ease economic impacts of trap reductions, we would attempt to time the implementation of the Lobster Trap Transfer Program with the implementation of the trap reduction program to mitigate any negative economic effects, and provide permit holders with operational flexibility.

Public Comments

To help determine the scope of issues to be addressed and to identify significant issues related to this action, we are soliciting written comments on this ANPR. The public is encouraged to submit comments related to the specific ideas mentioned in this ANPR, and the timing of the upcoming actions that are currently under development.

Authority: 16 U.S.C. 5101 et seq.

Dated: August 15, 2013.
Alan D. Risenhoover,
Director, Office of Sustainable Fisheries, performing the functions and duties of the Deputy Assistant Administrator for Regulatory Programs, National Marine Fisheries Service.

[FR Doc. 2013-20298 Filed 8-19-13; 8:45 am]

BILLING CODE 3510-22-P